ENVIRONMENTAL PROTECTION AGENCY

[FRL-10185-01-R9]

Revision of Approved State Primacy Program for the State of Arizona

AGENCY: Environmental Protection Agency (EPA).

ACTION: Notice of approval.

SUMMARY: Notice is hereby given that the State of Arizona revised its approved State primacy program under the federal Safe Drinking Water Act (SDWA) by adopting regulations that effectuate the federal Filter Backwash Recycling Rule (FBRR), Ground Water Rule (GWR), and Radionuclides Rule. The Environmental Protection Agency (EPA) has determined that Arizona's revision request meets the applicable SDWA program revision requirements and the regulations adopted by Arizona are no less stringent than the corresponding federal regulations. Therefore, EPA approves this revision to Arizona's approved State primacy program. However, this determination on Arizona's request for approval of a program revision shall take effect in accordance with the procedures described below in the SUPPLEMENTARY INFORMATION section of this notice after the opportunity to request a public hearing.

DATES: A request for a public hearing must be received or postmarked before October 20, 2022.

ADDRESSES: Documents relating to this determination that were submitted by Arizona as part of its program revision request are available for public inspection online https://azdeq.gov/notices. In addition, these documents are available by appointment between the hours of 8:30 a.m. and 4:30 p.m., Monday through Friday at the following address: Records Center, 1110 W Washington Street, Phoenix, Arizona 85007.

FOR FURTHER INFORMATION CONTACT: Daria Evans-Walker, EPA Region 9, Drinking Water Section; via telephone at (415) 972-3451or via email address at Evans-Walker.Daria@epa.gov.

SUPPLEMENTARY INFORMATION:

Background. EPA approved Arizona's initial application for primary enforcement authority (“primacy”) of drinking water systems on August 25, 1978 (43 FR 38083). Since initial primacy approval, EPA has approved various revisions to Arizona's primacy program. For the revision covered by this action, EPA promulgated the FBRR at 40 CFR 141.76 on June 8, 2001. The FBRR reduces the opportunity for recycle practices to adversely affect the performance of drinking water treatment plants and to help prevent microbial contaminants from passing through treatment systems and into finished drinking water. EPA promulgated the GWR on November 8, 2006 (71 FR 65574). The GWR provides protection against microbial pathogens in public water systems using ground water sources. EPA promulgated National Interim Primary Drinking Water Regulations (NIPDWRs) for radioactivity in drinking water on July 9, 1976. The 1986 amendments to the Safe Drinking Water Act finalized NIPDWRs and required EPA to promulgate maximum contaminant limit goals and National Primary Drinking Water Regulations for the radionuclides, radon and uranium. On December 7, 2000, EPA revised the Radionuclides Rule which modified the monitoring provisions for community water systems and established a new drinking water standard for uranium and new analytical methods (65 FR 76708). The FBRR reduces the opportunity for recycle practices to adversely affect the performance of drinking water treatment plants and to help prevent microbial contaminants from passing through treatment systems and into finished drinking water. EPA promulgated the GWR on November 8, 2006 (71 FR 65574). The GWR provides protection against microbial pathogens in public water systems using ground water sources. EPA promulgated National Interim Primary Drinking Water Regulations (NIPDWRs) for radioactivity in drinking water on July 9, 1976. The 1986 amendments to the Safe Drinking Water Act finalized NIPDWRs and required EPA to promulgate maximum contaminant limit goals and National Primary Drinking Water Regulations for the radionuclides, radon and uranium. On December 7, 2000, EPA revised the Radionuclides Rule which modified the monitoring provisions for community water systems and established a new drinking water standard for uranium and new analytical methods (65 FR 76708). EPA has determined that Arizona has adopted into state law FBRR, GWR and Radionuclides Rule requirements that are comparable to and no less stringent than the federal requirements. EPA has also determined that Arizona's program revision request meets all of the regulatory requirements for approval, as set forth in 40 CFR 142.12, including a side-by-side comparison of the Federal requirements demonstrating the corresponding Arizona authorities, additional materials to support special primacy requirements of 40 CFR 142.16, a review of the requirements contained in 40 CFR 142.10 necessary for States to attain and retain primary enforcement responsibility, and a statement by the Arizona Attorney General certifying that Arizona's laws and regulations to carry out the program revision were duly adopted and are enforceable. The Attorney General's statement also affirms that Arizona's audit privilege law does not impact Arizona's ability to implement or enforce the Arizona laws and regulations pertaining to the program revision. This finding relies upon the analysis contained in the letter from the Office of the Attorney General to the EPA Region 9 Water Division Director, dated January 28, 2019, regarding its environmental audit privilege law. Therefore, EPA approves this revision of Arizona's approved State primacy program. The Technical Support Document, which provides EPA's analysis of Arizona's program revision request, is available by submitting a request to the following email address: R9dw-program@epa.gov. Please note “Technical Support Document” in the subject line of the email.

Public Process. Any interested person may request a public hearing on this determination. A request for a public hearing must be received or postmarked before October 20, 2022 and addressed to the Regional Administrator of EPA Region 9, via the following email address: R9dw-program@epa.gov, or by contacting the EPA Region 9 contact person listed above in this notice by telephone if you do not have access to email. Please note “Arizona Program Revision Determination” in the subject line of the email. The Regional Administrator may deny frivolous or insubstantial requests for a hearing. If a timely request for a public hearing is made, then EPA Region 9 may hold a public hearing. Any request for a public hearing shall include the following information: 1. The name, address, and telephone number of the individual, organization, or other entity requesting a hearing; 2. A brief statement of the requesting person's interest in the Regional Administrator's determination and of information that the requesting person intends to submit at such hearing; and 3. The signature of the individual making the request, or, if the request is made on behalf of an organization or other entity, the signature of a responsible official of the organization or other entity.

If EPA Region 9 does not receive a timely request for a hearing or a request for a hearing was denied by the Regional Administrator for being frivolous or insubstantial, and the Regional Administrator does not elect to hold a hearing on their own motion, EPA's approval shall become final and effective on October 20, 2022, and no further public notice will be issued.

Authority: Section 1413 of the Safe Drinking Water Act, as amended, 42 U.S.C. 300g-2 (1996), and 40 CFR part 142 of the National Primary Drinking Water Regulations.

Dated: September 13, 2022.
Deborah Jordan,
Acting Regional Administrator, EPA Region 9.

[FR Doc. 2022-20263 Filed 9-19-22; 8:45 am]

BILLING CODE 6560-50-P